DEPARTMENT OF LABOR

Employment and Training Administration

[TA-W-58,303A]

CIBA Specialty Chemicals Corporation Textile Effects; Albemarle, NC; Notice of Termination of Investigation

Pursuant to Section 221 of the Trade Act of 1974, as amended, an investigation was initiated on November 9, 2005 in response to a petition filed by the State of North Carolina on behalf of workers at Ciba Specialty Chemicals Corporation, Textile Effects, Albemarle, North Carolina.

The investigation revealed that the subject facility closed more than one year prior to the date of the petition. Consequently, further investigation would serve no purpose and the investigation has been terminated.

Signed at Washington, DC, this 29th day of November, 2005.
Linda G. Poole,
Certifying Officer, Division of Trade Adjustment Assistance.

[FR Doc. E5-7052 Filed 12-7-05; 8:45 am]

BILLING CODE 4510-30-P